DEPARTMENT OF ENERGY

Office of Energy Efficiency and Renewable Energy

Energy Conservation Program for Consumer Products: Publishing of the Petition for Waiver of Mitsubishi Electric From the DOE Commercial Package Air Conditioner and Heat Pump Test Procedure (Case No. CAC-008)

AGENCY: Office of Energy Efficiency and Renewable Energy, Department of Energy.

ACTION: Notice of Petition for Waiver and solicitation of comments.

SUMMARY: Today's notice publishes a “Petition for Waiver” from Mitsubishi Electric and Electronics USA, Inc. (MEUS). The MEUS Petition requests a waiver of the test procedures applicable to commercial package air conditioners and heat pumps. The Department of Energy (DOE) is soliciting comments, data, and information with respect to the Petition for Waiver.

DATES: The Department will accept comments, data, and information with respect to this Petition for Waiver on or before October 16, 2003.

ADDRESSES: Send written comments and statements to: U.S. Department of Energy, Building Technologies Program, Case No. CAC-008, Mail Stop EE-2J, Forrestal Building, 1000 Independence Avenue, SW, Washington, DC 20585-0121.

Copies of public comments received, this notice, and the Petition for Waiver may be read at the Freedom of Information Reading Room (Room 1E-190) at the U.S. Department of Energy, Forrestal Building, 1000 Independence Avenue, SW, Washington, DC 20585, telephone: (202) 586-3142, between the hours of 9 a.m. and 4 p.m., Monday through Friday, except Federal holidays.

FOR FURTHER INFORMATION CONTACT: Dr. Michael G. Raymond, U.S. Department of Energy, Building Technologies Program, Mail Stop EE-2J, Forrestal Building, 1000 Independence Avenue, SW, Washington, DC 20585-0121, (202) 586-9611; e-mail: Michael.Raymond.ee.doe.gov; or Francine Pinto, Esq., or Thomas DePriest, Esq.,U.S. Department of Energy, Office of General Counsel, Mail Stop GC-72, Forrestal Building, 1000 Independence Avenue, SW, Washington, DC 20585-0103, (202) 586-9507; e-mail: Francine.Pinto@hq.doe.gov, or Thomas.DePriest@hq.doe.gov.

SUPPLEMENTARY INFORMATION: Title III of the Energy Policy and Conservation Act (EPCA) sets forth a variety of provisions concerning energy efficiency. Part B of Title III (42 U.S.C. 6291-6309) provides for the “Energy Conservation Program for Consumer Products other than Automobiles.” Part C of Title III (42 U.S.C. 6311-6317) provides for a program entitled “Energy Efficiency of Industrial Equipment,” which is similar to the program in Part B, and which includes commercial air conditioning equipment, packaged boilers, water heaters, and other types of commercial equipment.

Today's notice involves commercial equipment under Part C, which specifically provides for definitions, test procedures, labeling provisions, energy conservation standards, and the authority to require information and reports from manufacturers. With respect to test procedures, Part C generally authorizes the Secretary of Energy to prescribe test procedures that are reasonably designed to produce results which reflect energy efficiency, energy use and estimated annual operating costs, and that are not unduly burdensome to conduct. (42 U.S.C. 6314)

For commercial package air-conditioning and heating equipment, EPCA provides that the test procedures shall be those generally accepted industry testing procedures developed or recognized by the Air-Conditioning and Refrigeration Institute (ARI) or by the American Society of Heating, Refrigerating and Air Conditioning Engineers (ASHRAE), as referenced in ASHRAE/IES Standard 90.1 and in effect on June 30, 1992. (42 U.S.C. 6314(a)(4)(A)) This section also provides for the Secretary of Energy to amend the test procedure for a product if the industry test procedure is amended, unless the Secretary determines that such a modified test procedure does not meet the statutory criteria. (42 U.S.C. 6314(a)(4)(B))

The relevant test procedure for purposes of today's notice and referenced in the version of ASHRAE 90.1 in effect in 1992 is ARI 210/240 (1989), “Standard for Unitary Air-Conditioning and Air-Source Heat Pump Equipment.” The Air-Conditioning and Refrigeration Institute subsequently modified the 1989 version of the test procedure. The Department issued a Notice of Proposed Rulemaking proposing to adopt ARI 210/240 (1994) (65 FR 48828, Aug. 9, 2000), but has not taken final action with respect to that proposal. Thus, the currently applicable test procedure is contained in ARI Standard 210/240 (1989).

The Department's regulations contain provisions allowing a person to seek a waiver from the test procedure requirements for covered consumer products and electric motors. These provisions are set forth in 10 CFR 430.27 and 10 CFR 431.29. However, there are no waiver provisions for other covered commercial equipment. The Department proposed waiver provisions for covered commercial equipment on December 13, 1999 (64 FR 69597), as part of the commercial furnace test procedure rule. The Department expects to publish a final rule codifying this process in 10 CFR 431.201. Until that time, DOE will apply to commercial equipment the waiver provisions for consumer products and electric motors. These waiver provisions are substantively identical.

The waiver provisions allow the Assistant Secretary for Energy Efficiency and Renewable Energy to waive temporarily test procedures for a particular basic model when a petitioner shows that the basic model contains one or more design characteristics that prevent testing according to the prescribed test procedures, or when the prescribed test procedures may evaluate the basic model in a manner so unrepresentative of its true energy consumption as to provide materially inaccurate comparative data. (10 CFR 430.27 (a)(1), 10 CFR 431.29 (a)(1)) Waivers generally remain in effect until final test procedure amendments become effective, thereby resolving the problem that is the subject of the waiver.

On June 13, 2003, MEUS filed a Petition for Waiver from the test procedures applicable to commercial package air conditioning and heating equipment. In particular, MEUS seeks a waiver from the currently applicable test procedures contained in ARI 210/240 (1989), and from the test procedures contained in ARI 210/240 (1994), that the Department has proposed to adopt.

MEUS requests a waiver from the test procedures for the following basic product models:

CITY MULTI Variable Refrigerant Flow Zoning System R-2 Series Outdoor Equipment:

PURY-80TMU, 80,000 Btu/h, 208/230-3-60 split-system variable-speed heat pump

PURY-100TMU, 100,000 Btu/h, 208/230-3-60 split-system variable-speed heat pump

CITY MULTI Variable Refrigerant Flow Zoning System Y Series Outdoor Equipment:

PUHY-80TMU, 80,000 Btu/h, 208/230-3-60 split-system variable-speed heat pump

PUHY-100TMU, 100,000 Btu/h, 208/230-3-60 split-system variable-speed heat pump

PUY-80TMU, 80,000 Btu/h, 208/230-3-60 split-system variable-speed air conditioner

PUY-100TMU, 100,000 Btu/h, 208/230-3-60 split-system variable-speed air conditioner

CITY MULTI Variable Refrigerant Flow Zoning System Indoor Equipment ¹:

¹ The * denotes engineering differences in the models.

PCFY Series—Ceiling Suspended—PCFY-16/24/40/48***-*

PDFY Series—Ceiling Concealed Ducted—PDFY-08/10/12/16/20/24/28/32/40/48***-*

PEFY Series—Ceiling Concealed Ducted, Low External Static Pressure—PEFY-08/10/12***-*

PEFY Series—Ceiling Concealed Ducted, High External Static Pressure—PEFY-16/20/24/28/32/40/48***-*

PFFY Series—Floor Standing—PFFY-08/10/12/16/20/24***-*

PKFY Series—Wall-Mounted—PKFY-08/10/12/16/20/24/32/40***-*

PLFY Series—4-Way Airflow Ceiling Cassette—PLFY-12/16/20/24/32/40/48***-*

PLFY Series—2-Way Airflow Ceiling Cassette—PLFY-08/10/12/16/20/24/32/40/48***-*

PMFY Series—1-Way Airflow Ceiling Cassette—PMFY-08/10/12/16***-*

MEUS seeks a waiver from the applicable test procedures because, MEUS asserts, the current test procedures evaluate CITY MULTI VRFZ system products in a manner so unrepresentative of their true energy consumption characteristics as to provide materially inaccurate comparative data. MEUS claims that the energy usage of the CITY MULTI VRFZ systems cannot be representatively measured using the current test procedures for the following reasons:

1. The test procedures provide for testing of the pair of indoor and outdoor assemblies making up a typical split system, but provide no direction about how to test CITY MULTI systems with which literally millions of combinations of indoor units could be used with any given outdoor assembly.

2. The test procedures call for testing “matched assemblies, ” but CITY MULTI systems are designed to be used in zoning systems where the capacity of the indoor units does not match the capacity of the outdoor unit.

3. The test procedures do not accommodate infinite variability in compressor speed.

4. The test procedures do not account for the capability of simultaneous heating and cooling.

The MEUS petition requests that DOE grant a waiver from existing test procedures until such time as a representative test procedure is developed and adopted for this class of products. MEUS intends to work with ARI to develop appropriate test procedures.

The Department is publishing the MEUS “Petition for Waiver” in its entirety. The Petition contains no confidential information. The Department solicits comments, data, and information with respect to the Petition. The Department is particularly interested in receiving comments and views of interested parties concerning any alternate test procedures, or modifications to test procedures, that the Department could use to fairly represent the energy efficiency of MEUS' CITY MULTI products. Any person submitting written comments must also send a copy of such comments to the petitioner. 10 CFR 430.27(b)(1)(iv).

Issued in Washington, DC, on September 9, 2003.
David K. Garman,
Assistant Secretary, Energy Efficiency and Renewable Energy.

Mitsubishi Electric & Electronics USA, Inc.

HVAC Advanced Products Division, 4505-A Newpoint Place, Lawrenceville, GA 30043, Phone: 678-376-2900, Fax: 678-376-3540 or 800-889-9904.

Mr. David K. Garman, Assistant Secretary for Energy Efficiency and Renewable Energy, U.S. Department of Energy, 1000 Independence Ave, SW., Washington, DC 20585-0121.

June 13, 2003.

Re: Petition for Waiver of Test Procedure.

Dear Assistant Secretary Garman: Mitsubishi Electric & Electronics USA, Inc. (MEUS) respectfully submits this petition to the Department of Energy (DOE) for a waiver of the test procedures applicable to commercial package air conditioners and heat pumps, as established in ARI 210/240 (1989), for MEUS's CITY MULTI Variable Refrigerant Flow Zoning System products.²

² As of this petition, DOE has not codified procedures concerning waiver of test procedures for commercial package air conditioners and heat pumps. However, we assume that DOE will employ the same procedures it uses for processing requests for waivers of other test procedures. See 10 CFR 430.27 (2002) (procedures for waiver from test procedures for consumer products) and 10 CFR 431.29 (2002) (procedures for waiver from test procedures for electric motors). While there are no final regulations for commercial package air conditioners and heat pumps, in a 1999 Notice of Proposed Rulemaking, DOE proposed procedures and standards for granting waivers and interim waivers from test procedures for commercial package air conditioners and heat pumps, in a 1999 Notice of Proposed Rulemaking, DOE proposed procedures and standards for granting waivers and interim waivers from test procedures for commercial heating and air conditioning equipment. These proposed procedures are similar to those codified for other products. In particular, DOE proposed to grant waivers where the prescribed test procedures evaluate the basic model “in a manner so unrepresentative of its true energy consumption characteristics as to provide materially inaccurate comparative data.” 64 FR 69598 (Dec. 13, 1999) (to be codified at 10 CFR 431.601).

Background—CITY MULTI Variable Refrigerant Flow Zoning Systems

MEUS's line of CITY MULTI Variable Refrigerant Flow Zoning (VRFZ) System products, offered by the HVAC Advanced Products Division of MEUS, combines advanced technologies to provide a new approach to comfort conditioning. CITY MULTI VRFZ systems are complete, commercial zoning systems that save energy through the effective use of variable refrigerant control and distribution, zoning diversity, and system intelligence.

CITY MULTI VRFZ systems have the capability of connecting a single outdoor unit to up to 16 indoor units, giving these systems tremendous installation flexibility with over a million potential system combinations. The operating characteristics of a VRFZ system allow each indoor unit to have a different set temperature and a different mode of operation (i.e., on/off/heat/cool/fan), allowing great flexibility of operation. The variable speed compressor and the system controls direct refrigerant flow throughout the system to precisely match the performance of the system to the load of the conditioned areas. The compressor is capable of reducing its operating capacity to as little as 16% of its rated capacity. The outdoor fan motor also has a variable speed drive to properly match the outdoor coil to indoor loads. Zone diversity enables VRFZ systems to have a total connected indoor unit capacity of up to 150% of the capacity of the outdoor unit. The CITY MULTI R2 Series, the first member of this MEUS product family to be introduced into the U.S. market, is capable of simultaneously providing cooling to one or more zones while heating other zones using advanced heat recovery methods.

Test Procedures From Which Waiver Is Requested

MEUS seeks a waiver from the test procedures applicable, for purposes of the Energy Policy and Conservation Act (EPCA), to commercial package air conditioning and heating equipment. In particular, MEUS seeks a waiver from the currently applicable test procedures provided in ARI 210/240 (1989), and from the test procedures provided in ARI 2140/240 (1994) that the Department has proposed to adopt.

Section 343(a)(4)(A) of EPCA provides that the test procedures for purposes of EPCA shall be those generally accepted procedures referenced in ASHRAE/IES Standard 90.1 and in effect on June 30, 1992. Section 343(a)(4)(B) of EPCA provides for the Secretary to amend the test procedure for a product if the industry test procedure is modified, unless the Secretary determines that such a modified test procedure does not meet the statutory criteria.

The ARI test procedures referenced in the version of ASHRAE 90.1 in effect in 1992 are ARI 210/240 (1989). ARI has subsequently modified the 1989 version of the test procedures several times. The Department issued a Notice of Proposed Rulemaking proposing to adopt ARI 210/240 (1994),³ but has not taken final action with respect to that proposal. Thus, the currently applicable test procedures for EPCA purposes are contained in ARI Standard 210/240 (1989).

³ 65 FR 48828 (Aug. 9, 2000).

While the proposal to adopt ARI 210/240 (1994) has not been finalized as of the filing of this petition, we understand that it is under active consideration. Therefore, we request waiver from the applicable test procedures, including ARI 210/240 (1989) or ARI 210/240 (1994) if adopted, so as to avoid the need to request another waiver if the 1994 version is adopted by the Department.

Basic Models for Which Waiver Is Requested

MEUS requests a waiver from the test procedures for the following basic product models:

CITY MULTI Variable Refrigerant Flow Zoning System R-2 Series Outdoor Equipment:

—PURY-80TMU, 80,000 Btu/h, 208/230-3-60 split-system variable-speed heat pump

—PURY-100TMU, 100,000 Btu/h, 208/230-3-60 split-system variable-speed heat pump

CITY MULTI Variable Refrigerant Flow Zoning System Y Series Outdoor Equipment:

—PUHY-80TMU, 80,000 Btu/h, 208/230-3-60 split-system variable-speed heat pump

—PUHY-100TMU, 100,000 Btu/h, 208/230-3-60 split-system variable-speed heat pump

—PUY-80TMU, 80,000 Btu/h, 208/230-3-60 split-system variable-speed air conditioner

—PUY-100TMU, 100,000 Btu/h, 208/230-3-60 split-system variable-speed air conditioner

CITY MULTI Variable Refrigerant Flow Zoning System Indoor Equipment:⁴

⁴ The * denotes engineering differences in the models.

—PCFY Series—Ceiling Suspended—PCFY-16/24/40/48***-*

—PDFY Series—Ceiling Concealed Ducted—PDFY-08/10/12/16/20/24/28/32/40/48***-*

—PEFY Series—Ceiling Concealed Ducted, Low External Static Pressure—PEFY-08/10/12***-*

—PEFY Series—Ceiling Concealed Ducted, High External Static Pressure—PEFY-16/20/24/28/32/40/48***-*

—PFFY Series—Floor Standing—PFFY-08/10/12/16/20/24***-*

—PKFY Series—Wall-Mounted—PKFY-08/10/12/16/20/24/32/40***-*

—PLFY Series—4-Way Airflow Ceiling Cassette—PLFY-12/16/20/24/32/40/48***-*

—PLFY Series—2-Way Airflow Ceiling Cassette—PLFY-08/10/12/16/20/24/32/40/48***-*

—PMFY Series—1-Way Airflow Ceiling Cassette—PMFY-08/10/12/16***-*

Need for Waiver of the Test Procedure

MEUS seeks a waiver from the applicable test procedures because the current test procedures evaluate CITY MULTI VRFZ System products “in a manner so unrepresentative of its true energy consumption characteristics as to provide materially inaccurate comparative data.”⁵ The energy usage of the CITY MULTI VRFZ Systems cannot be representatively measured using the current test procedures for several reasons discussed below.

⁵ See 10 CFR 430.27 (2003) (standard for granting waiver from test procedures for consumer products) and 10 CFR 431.29 (2002) (standard for granting waiver from test procedures for electric motors.)

1. The test procedure provides for testing of the pair of indoor and outdoor assemblies making up a typical split system, but provides no direction about how to test CITY MULTI systems with which literally millions of combinations of indoor units could be used with any given outdoor assembly.

The ARI test procedures do not provide for separate testing of indoor and outdoor components of split systems. Rather, they provide for the indoor and outdoor elements to be tested together. In particular, the test procedure provides that “the requirements of rating outlined in this standard are based upon the use of matched assemblies.” ARI Standard 210/240 3.2 (1989).⁶ Virtually all of the systems covered by this test procedure have one outdoor unit matched to one indoor coil,⁷ so the test procedure's direction to test “matched assemblies” can be straightforwardly applied. With CITY MULTI VRFZ Systems, however, there is no standard configuration of outdoor and indoor units that can be tested together as representative. The products are intended to be used in zoning systems, and each outdoor unit can be connected with up to 16 separate indoor units in a zoned system. Moreover, MEUS offers 58 indoor unit models. Each of these indoor unit models is designed to be used with up to 15 other indoor units, which need not be the same models, in combination with a single outdoor unit. Thus, for each of the CITY MULTI VRFZ outdoor coils, there are well over 1,000,000 combinations of indoor coils that can be matched up in a system configuration.

⁶ The same language appears in ARI Standard 210/240 3.2 (1994).

⁷ An analysis of commercial products from 65,000 Btu/h to 240,000 Btu/h covered by ARI Standard 210/240 and listed in the ARI Unitary Large Equipment (ULE) directory was conducted by MEUS. For the products in the Split System Heat Pump (HRCU-A-CB) category, 172 of 173 (over 99%) of the systems listed have one indoor coil, and the other system has two indoor coils. For the products in the Condensing Unit Coil and Blower (RCU-A-CB) category, 649 of 653 (over 99%) of the listed systems have one indoor coil and the other four systems have two indoor coils. None of the listed products in these categories have more than 2 indoor coils. By contrast, the City Multi VRFZ systems will have typically 4 to 8 indoor coils, can be configured with as many as 16 indoor coils.

The current test procedure provides no direction for determining what combination or combinations of outdoor and indoor units should be tested in these circumstances. It is not practical to test each possible combination. The test procedure provides no mechanism for sampling component combinations.⁸ Thus, the test procedure does not contemplate, and cannot practicably be applied to, the CITY MULTI VRFZ systems consisting of multiple assemblies that are intended to be used in a very large number of different combinations.

⁸ Any modification of test procedures to provide for testing of a sample of configurations would need to assure that the test results produced would fairly represent energy used in other component combinations used by customers.

2. The test procedure calls for testing “matched assemblies,” but CITY MULTI systems are designed to be used in zoning systems where the capacity of the indoor units does not match capacity of the outdoor unit.

Indoor and outdoor coils in split systems are typically balanced, that is, the capacity of the outdoor coil is equivalent to the capacity of the indoor coil. The test procedure's application to “matched assemblies” contemplates such a balance between indoor and outdoor coil capacity. With the CITY MULTI VRFZ Systems, however, the sum of the capacity of the indoor units connected into the system can be as much as 150% of the capacity of the outdoor coil. Such unbalanced combinations of CITY MULTI indoor and outdoor units are permitted by the zoning characteristics of the system, the use of electronic expansion valves to precisely control refrigerant flow to each indoor coil, and the system intelligence for overall system control. The test procedure designed for matched assemblies does not contemplate or address testing for substantially unbalanced zoning systems such as the CITY MULTI.⁹

⁹ Note that the ARI test procedure is also ambiguous about how to determine the capacity of such unbalanced VRFZ systems.

3. The current test procedure does not accommodate infinite variability in compressor speed.

The compressors in typical commercial package air conditioners and heat pumps are on/off systems, with the compressor operating only at one speed. Thus, the test procedure's baseline test is conducted at full load. The test procedure includes a crude mechanism designed to measure energy use in the cooling mode at specified part-loads. ARI 210/240 5.2 (1989) provides that “[s]ystems which are capable of capacity reduction shall be rated at 100% and at each step of capacity reduction provided by the refrigeration system(s) as published by the manufacturer. These rating points shall be used to calculate the [integrated part load value, or] IPLV.”¹⁰ The CITY MULTI VRFZ Systems, by contrast, have variable frequency inverter driven scroll compressors, and therefore have nearly infinite steps of capacity. For this reason, the test procedure's “step” analysis of capacity reduction cannot be practicably applied to the CITY MULTI VRFZ compressors.

¹⁰ The same language appears in ARI 210/240 5.2 (1994).

In addition, the existing test standards do not provide a test method for integrated part load value during heating operation of heat pumps. The CITY MULTI heat pump products' part load capability in heating mode is not accounted for in any way in the test procedure.

In order to provide accurate data for product comparisons by consumers, it is critical that the efficiency rating of a system be derived at its normal operating state. While other system compressors run at full load as their normal state, the CITY MULTI VRFZ Systems run at part load as their normal state. EER measurements at full load are not representative of typical customer usage of the CITY MULTI product. Thus, the problems with the IPLV methodology described above are particularly problematic with respect to the CITY MULTI VRFZ Systems.

4. The current test procedure does not account for the capability of simultaneous heating and cooling.

The CITY MULTI VRFZ R2 products are the only 2-pipe simultaneous heating and cooling systems available in the United States at the current time. These simultaneous heating and cooling systems achieve significant energy efficiency because they transfer heat recovered from one zone and discharge it into another zone needing heat. The test procedures in ARI 210/240 5.2 (1989) and ARI 210/240 5.2 (1994) do not include any mechanism for testing a multi-split heat pump that can operate with one or more indoor coils cooling while one or more other indoor units are heating.

For all of these reasons, the existing test procedures evaluate the CITY MULTI VRFZ products “in a manner so unrepresentative of its true energy consumption characteristics as to provide materially inaccurate comparative data.”¹¹ Thus, this petition for waiver should be granted.

¹¹ 10 CFR 431.29 (2002)(a)(1) (standard for granting waiver from test procedures for electric motors). See also 10 CFR 430.27(a)(1) (2002) (standard for granting waiver from test procedures for consumer products).

It is not surprising that the existing test procedures do not address the issues listed above, because VRFZ systems like the CITY MULTI were not in distribution in the U.S. when the Energy Policy Act was enacted in 1992, or when the industry standards and test procedures incorporated by reference in the Energy Policy Act were developed.

Without a waiver of the test procedure, MEUS is at a competitive disadvantage in the market. Utilities, customers, and State and local governments expect MEUS to provide energy efficiency ratings that will enable the comparison of HVAC products, the determination of building code compliance, and the calculation of energy savings. The current test procedure, however, cannot be meaningfully applied to CITY MULTI VRFZ systems, for the reasons described above. Moreover, if there is an applicable test procedure for a covered product, section 343(d)(1) of EPCA prohibits a manufacturer from making representations about the energy consumption of the equipment unless the equipment has been tested in accordance with such test procedure and the representation fairly discloses the results of the testing. Therefore, MEUS is handicapped in its ability to provide information on energy consumption to its customers. This is particularly counterproductive for the CITY MULTI VRFZ systems because these systems are specifically designed to deliver energy savings for customers.

No Known Alternative Test Procedures

There are no alternative test procedures known to MEUS that could evaluate these products in a representative manner.¹²

¹² Although ARI 210/240 has been modified several times since 1989 (the most recent version being ARI 210/240 (2003)), even these revised test procedures do not address the problems identified above.

Similar Products

To the best of our knowledge, VRFZ products are also offered in the United States by Samsung Electronics Company, Ltd., Sanyo Fisher (USA) Corp., and Mitsubishi Heavy Industries Climate Control, Inc. Each of the manufacturers has incorporated a different technology to achieve variable refrigerant flow. None of these manufacturers offer a product comparable to the CITY MULTI VRFZ R2 products that offer simultaneous heating and cooling with a 2-pipe system.

We believe that a test procedure could be developed to address appropriately variable refrigerant flow zoning systems, part-load performance by variable speed compressors, and simultaneous heating and cooling operations. Given the differences in technology used by manufacturers of other VRFZ systems, however, it is uncertain whether a test procedure developed for the CITY MULTI VRFZ systems would also appropriately apply to these other manufacturers' products.

Conclusion

MEUS seeks a waiver of current test procedures established in ARI 210/240 (1989). Such a waiver is necessary because the current prescribed test procedures produce materially inaccurate and unrepresentative data for regulatory and consumer information purposes.

MEUS respectfully asks the Department of Energy to grant a waiver from existing test standards until such time as a representative test procedure is developed and adopted for this class of products. MEUS expects to work with ARI through the process of developing appropriate test procedures.

If we can provide further information, or if it would be helpful to discuss any of these matters further, please contact Paul Doppel, Brand Manager, at (678) 376-2923.

Sincerely,

William Rau

President, HVAC Advanced Products Division

Mitsubishi Electric & Electronics USA, Inc.

4505-A Newpoint Place

Lawrenceville, GA 30043

Certificate

I hereby certify that I have this day served the foregoing document upon the following companies known to Mitsubishi Electric & Electronics USA, Inc. to currently market systems in the United States which appear to be similar to the CITY MULTI VRFZ System design:

Samsung Air Conditioning

Samsung Electronics Company, LTD.

2865 Pellissier Pl.

Whittier, CA 90601

Attn: John Miles, Director, Engineering & Technical Support

Sanyo Fisher (USA) Corp.

1165 Allgood Road

Suite 22

Marietta, GA 30062

Attn: Tetsushi Yamashita, Engineering Manager, HVAC

Mitsubishi Heavy Industries Climate Control, Inc.

3030 E. Victoria Street

Racho Dominguez, CA 90221

Attn: Mario B. Santos, Assistant Manager, Service Engineer

Dated this 13th day of June 2003.

William Rau

President, HVAC Advanced Products Division

Mitsubishi Electric & Electronics USA, Inc.

4505-A Newpoint Place

Lawrenceville, GA 30043

[FR Doc. 03-23567 Filed 9-15-03; 8:45 am]

BILLING CODE 6450-01-P